DEPARTMENT OF LABOR

Employment and Training Administration

[TA-W-53,013]

American Uniform Co., Robbinsville, NC; Notice of Termination of Investigation

Pursuant to section 221 of the Trade Act of 1974, as amended, an investigation was initiated on September 26, 2003, in response to a petition filed by a company official on behalf of workers at American Uniform Company, Robbinsville, North Carolina.

The petitioner has requested that the petition be withdrawn. Consequently, the investigation has been terminated.

Signed at Washington, DC, this 8th day of October, 2003.
Richard Church,
Certifying Officer, Division of Trade Adjustment Assistance.

[FR Doc. 03-27579 Filed 10-31-03; 8:45 am]

BILLING CODE 4510-30-M